FARM CREDIT ADMINISTRATION

Privacy Act of 1974; System of Records

AGENCY: Farm Credit Administration.

ACTION: Notice of a modified system of records.

SUMMARY: Pursuant to the provisions of the Privacy Act of 1974, as amended, notice is hereby given that the Farm Credit Administration (FCA or Agency) is amending an existing system of records, FCA-10—Farm Credit System Institution Criminal Referrals—FCA. The Farm Credit System Institution Criminal Referrals—FCA system is used to track the progress of criminal referrals through the justice system, to notify FCA examiners and Farm Credit System institutions of criminal referrals, and to issue notices/orders of prohibition. The Agency is updating the notice to clarify and include more details about the categories of records maintained in the system, how they are maintained, to update the routine uses, to make administrative updates, and to make non-substantive changes to conform to the system of records notice (SORN) template requirements prescribed in the Office of Management and Budget (OMB) Circular No. A-108.

DATES: You may send written comments on or before June 25, 2020. FCA filed an amended System Report with Congress and the Office of Management and Budget on April 20, 2020. This notice will become effective without further publication on July 6, 2020 unless modified by a subsequent notice to incorporate comments received from the public.

ADDRESSES: We offer a variety of methods for you to submit your comments. For accuracy and efficiency reasons, commenters are encouraged to submit comments by email or through the FCA's website. As facsimiles (fax) are difficult for us to process and achieve compliance with section 508 of the Rehabilitation Act, we are no longer accepting comments submitted by fax. Regardless of the method you use, please do not submit your comment multiple times via different methods. You may submit comments by any of the following methods:

• Email: Send us an email at reg-comm@fca.gov.

• FCA Website: http://www.fca.gov. Click inside the “I want to. . .” field, near the top of the page; select “comment on a pending regulation” from the dropdown menu; and click “Go.” This takes you to an electronic public comment form.

• Mail: David Grahn, Director, Office of Regulatory Policy, Farm Credit Administration, 1501 Farm Credit Drive, McLean, VA 22102-5090.

You may review copies of comments we receive at our office in McLean, Virginia, or from our website at http://www.fca.gov.

Once you are in the website, click inside the “I want to . . .” field, near the top of the page; select “find comments on a pending regulation” from the dropdown menu; and click “Go.” This will take you to the Comment Letters page, where you can select the SORN for which you would like to read public comments. The comments will be posted as submitted but, for technical reasons, items such as logos and special characters may be omitted. Identifying information that you provide, such as phone numbers and addresses, will be publicly available. However, we will attempt to remove email addresses to help reduce internet spam.

FOR FURTHER INFORMATION CONTACT: Autumn R. Agans, Privacy Act Officer, Farm Credit Administration, McLean, Virginia 22102-5090, (703) 883-4019, TTY (703) 883-4020.

SUPPLEMENTARY INFORMATION: This publication satisfies the requirement of the Privacy Act of 1974 that agencies publish a system of records notice in the Federal Register when there is a revision, change, or addition to the system of records. The substantive changes and modifications to the currently published version of FCA-10—Farm Credit System Institution Criminal Referrals—FCA include:

1. Identifying the records in the system as unclassified.

2. Updating the system location to reflect the system's current location.

3. Updating the system managers to reflect the system's current owner.

4. Expanding and clarifying the categories of records to ensure they are consistent with the purposes for which the records are collected.

5. Expanding and clarifying the routine uses for which information in the system may be disclosed.

6. Expanding and clarifying how records may be stored and retrieved.

7. Revising the retention and disposal section to reflect relevant records schedule.

8. Revising the safeguards section to reflect updated cybersecurity guidance and practices.

Additionally, non-substantive changes have been made to the notice to align with the latest guidance from OMB.

The amended system of records is: FCA-10—Farm Credit System Institution Criminal Referrals—FCA. As required by 5 U.S.C. 552a(r) of the Privacy Act, as amended, FCA sent notice of this proposed system of records to the Office of Management and Budget, the Committee on Oversight and Government Reform of the House of Representatives, and the Committee on Homeland Security and Governmental Affairs of the Senate. The notice is published in its entirety below.

SYSTEM NAME AND NUMBER:

FCA-10—Farm Credit System Institution Criminal Referrals—FCA.

SECURITY CLASSIFICATION:

Unclassified.

SYSTEM LOCATION:

Office of Examination, Farm Credit Administration, 1501 Farm Credit Drive, McLean, VA 22102-5090.

SYSTEM MANAGER:

Director, Office of Examination, Farm Credit Administration, 1501 Farm Credit Drive, McLean, VA 22102-5090.

AUTHORITY FOR MAINTENANCE OF THE SYSTEM:

12 U.S.C. 2243, 2252 and 12 CFR part 612.

PURPOSES OF THE SYSTEM:

Information in this system of records is used to track the progress of criminal referrals through the justice system, to notify FCA examiners, the FCA Office of General Counsel, and Farm Credit System (FCS) institutions of criminal referrals, and to issue notices/orders of prohibition or take other enforcement actions.

CATEGORIES OF INDIVIDUALS COVERED BY THE SYSTEM:

Individuals who participate or have participated in the conduct of, or who are or were connected with, FCS institutions, such as directors, officers, employees, borrowers, shareholders, and agents, who have been named in criminal referrals, investigatory records or administrative enforcement orders or agreements.

CATEGORIES OF RECORDS IN THE SYSTEM:

This system contains paper and electronic files consisting of:

(1) Criminal referral forms and accompanying documents,

(2) inter-agency or intra-agency correspondence or memoranda;

(3) newspaper clippings and other similar supplementary materials;

(4) Federal, state, or local criminal law enforcement agency investigatory reports, indictments, and/or arrest or conviction information; and

(5) administrative enforcement orders or agreements.

Records contain personally identifiable information including, but not limited to: Name, address, Social Security number (SSN), taxpayer identification number (TIN), date of birth, relationship to an FCS institution, and employment information (for referrals involving current or former FCS institution employees, contractors, or agents), information about financial transactions or other financial information for persons suspected of a criminal violation, as well as information about the suspected criminal violation, and name, title, and contact information for identified witnesses of suspected criminal violation or FCS institution employees responsible for completing and submitting the criminal referral form. Records contained in this system (e.g., criminal investigation reports prepared by the Federal Bureau of Investigation, Secret Service, and other Federal law enforcement agencies) may be the property of other agencies. Upon receipt of a request for such records, FCA will immediately notify the proprietary agency of the request and ask how to process the request for access. FCA may forward the request to the proprietary agency for processing in accordance with that agency's regulations.

RECORD SOURCE CATEGORIES:

Farm Credit System institutions; Federal financial regulatory agencies; news media outlets; and criminal law enforcement investigatory and prosecutorial authorities.

ROUTINE USES OF RECORDS MAINTAINED IN THE SYSTEM, INCLUDING CATEGORIES OF USERS AND PURPOSES OF SUCH USES:

See the “General Statement of Routine Uses” (64FR 8175). The information collected in the system will be used in a manner that is compatible with the purposes for which the information has been collected and, in addition to the applicable general routine uses, may be disclosed for the following purposes:

(1) We may disclose information in this system of records to any financial institution, agency, authority, or other entity affected by the suspected criminal activities.

Disclosure to consumer reporting agencies: None.

POLICIES AND PRACTICES FOR STORAGE OF RECORDS:

Records are maintained in hard copy and electronic form, including in a computerized database.

POLICIES AND PRACTICES FOR RETRIEVAL OF RECORDS:

Records are retrieved by individual name, name of submitting FCS institution, date received, chronological number assigned in order of receipt, borrower type, referral type, loss amount, criminal violation, or by some combination thereof.

POLICIES AND PROCEDURES FOR RETENTION AND DISPOSAL OF RECORDS:

Records are retained in accordance with the FCA Comprehensive Records Schedule and National Archives and Records Administration regulations.

ADMINSITRATIVE, TECHNICAL, AND PHYSICAL SAFEGUARDS:

FCA implements multiple layers of security to ensure access to records is limited to those with need-to-know in support of their official duties. Paper records are physically safeguarded in a secured environment using locked file rooms, file cabinets, or locked offices and other physical safeguards. Computerized records are safeguarded through use of user roles, passwords, firewalls, encryption, and other information technology security measures.

RECORD ACCESS PROCEDURES:

To obtain a record, contact: Privacy Act Officer, Farm Credit Administration, 1501 Farm Credit Drive, McLean, VA 22102-5090, as provided in 12 CFR part 603.

CONTESTING RECORD PROCEDURES:

Direct requests for amendments to a record to: Privacy Act Officer, Farm Credit Administration, 1501 Farm Credit Drive, McLean, VA 22102-5090, as provided in 12 CFR part 603.

NOTIFICATION PROCEDURE:

Address inquiries about this system of records to: Privacy Act Officer, Farm Credit Administration, McLean, VA 22102-5090.

EXEMPTIONS PROMULGATED FOR THE SYSTEM:

This system is subject to a specific exemption, 5 U.S.C. 552a(k)(2), to the extent investigatory material is compiled for law enforcement purposes. Federal criminal law enforcement investigatory reports maintained as part of this system may be subject to exemptions imposed by the originating agency under 5 U.S.C. 552a(j)(2).

HISTORY:

Federal Register Vol. 64, No. 100/Tuesday, May 25, 1999, page 21875.

Vol. 70, No. 183/Thursday, September 22, 2005, page 55621.

Dated: May 19, 2020.
Dale Aultman,
Secretary, Farm Credit Administration Board.

[FR Doc. 2020-11198 Filed 5-22-20; 8:45 am]

BILLING CODE 6705-01-P